DEPARTMENT OF COMMERCE

International Trade Administration

[A-421-811]

Purified Carboxymethylcellulose From the Netherlands: Final Results of Antidumping Duty Administrative Review and Final No Shipment Determination

AGENCY: Import Administration, International Trade Administration, Department of Commerce.

SUMMARY: On August 2, 2012, the Department of Commerce (the Department) published its preliminary results of the 2010-2011 administrative review of the antidumping duty order on purified carboxymethylcellulose (purified CMC) from the Netherlands.¹ This review covers two respondents, Akzo Nobel Functional Chemicals B.V. (Akzo Nobel) and CP Kelco B.V. (CP Kelco). The period of review (POR) is July 1, 2010, through June 30, 2011. The final weighted-average dumping margin is listed below in the “Final Results of Review” section of this notice.

¹ See Purified Carboxymethylcellulose From the Netherlands: Preliminary Results of Antidumping Duty Administrative Review and Preliminary Intent To Rescind, 77 FR 46024 (August 2, 2012) (Preliminary Results).

DATES: Effective Date: February 12, 2013.

FOR FURTHER INFORMATION CONTACT: Dena Crossland or Angelica Mendoza, AD/CVD Operations, Office 7, Import Administration, International Trade Administration, U.S. Department of Commerce, 14th Street and Constitution Avenue NW., Room 7850, Washington, DC 20230; telephone (202) 482-3362 or (202) 482-3019, respectively.

SUPPLEMENTARY INFORMATION:

Background

On August 2, 2012, the Department published the Preliminary Results. We invited interested parties to comment on the Preliminary Results. We timely received case and rebuttal briefs from interested parties.

On December 26, 2012, we issued a post-preliminary analysis in which we addressed the targeted dumping allegations made by petitioner, Aqualon Company, a unit of Hercules Incorporated, and invited comments from interested parties.² We timely received additional briefs and rebuttal briefs from interested parties commenting on the Post-Preliminary Analysis.

² See Antidumping Duty Administrative Review of Purified Carboxymethylcellulose (CMC) from the Netherlands: Post-Preliminary Results Analysis Memorandum from Richard Weible, Office Director, AD/CVD Operations, Office 7, to Paul Piquado, Assistant Secretary for Import Administration, through Christian Marsh, Deputy Assistant Secretary, for Antidumping and Countervailing Duty Operations, dated December 20, 2012 (Post-Preliminary Analysis); see also Antidumping Duty Administrative Review of Purified Carboxymethylcellulose (CMC) from the Netherlands: Post-Preliminary Calculation Memorandum from Dena Crossland, International Trade Compliance Analyst, AD/CVD Operations, Office 7, Import Administration, to The File, through Angelica Mendoza, Program Manager, AD/CVD Operations, Import Administration, dated December 20, 2012.

Period of Review

The POR is July 1, 2010, through June 30, 2011.

Scope of the Order

The merchandise covered by this order is all purified carboxymethylcellulose, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent. The merchandise subject to this order is classified in the Harmonized Tariff Schedule of the United States (HTSUS) at subheading 3912.31.00. This tariff classification is provided for convenience and customs purposes; however, the written description of the scope of the order is dispositive. See Notice of Antidumping Duty Orders: Purified Carboxymethylcellulose from Finland, Mexico, the Netherlands and Sweden, 70 FR 39734 (July 11, 2005) (Order).

Determination of No Shipments

As noted in the Preliminary Results, we received a no-shipment claim from CP Kelco, and we confirmed this claim with U.S. Customs and Border Protection (CBP). Because we find that the record indicates that CP Kelco did not export subject merchandise to the United States during the POR, we determine that it had no reviewable transactions during the POR.

Our former practice concerning respondents submitting timely no-shipment certifications was to rescind the administrative review with respect to those companies if we were able to confirm the no-shipment certifications through a no-shipment inquiry with CBP. See Antidumping Duties; Countervailing Duties; Final rule, 62 FR 27296, 27393 (May 19, 1997); see also Stainless Steel Sheet and Strip in Coils from Taiwan: Final Results of Antidumping Duty Administrative Review, 75 FR 76700, 76701 (December 9, 2010). As a result, in such circumstances, we normally instructed CBP to liquidate any entries from the no-shipment company at the deposit rate in effect on the date of entry.

In our May 6, 2003, clarification of the “automatic assessment” regulation, we explained that, where respondents in an administrative review demonstrate that they had no knowledge of sales through resellers to the United States, we would instruct CBP to liquidate such entries at the all-others rate applicable to the proceeding. See Antidumping and Countervailing Duty Proceedings: Assessment of Antidumping Duties, 68 FR 23954 (May 6, 2003) (Assessment Policy Notice). Because “as entered” liquidation instructions do not alleviate the concerns which the May 2003 clarification was intended to address, we find it appropriate in this case to instruct CBP to liquidate any existing entries of merchandise produced by CP Kelco and exported by other parties at the all-others rate. In addition, we continue to find that it is more consistent with the May 2003 clarification not to rescind the review in part in these circumstances but, rather, to complete the review with respect to CP Kelco and issue appropriate instructions to CBP based on the final results of this administrative review. See the “Assessment Rates” section of this notice below.

Analysis of Comments Received

All issues raised in the case and rebuttal briefs and the post-preliminary comments by parties to this administrative review are addressed in the Issues and Decision Memorandum for the Final Results of the Administrative Review of the Antidumping Duty Order on Purified Carboxymethylcellulose (CMC) from the Netherlands from Christian Marsh, Deputy Assistant Secretary for Antidumping and Countervailing Duty Operations, to Paul Piquado, Assistant Secretary for Import Administration (Issues and Decision Memorandum), which is dated concurrently with and hereby adopted by this notice. A list of the issues raised is attached to this notice as Appendix I. The Issues and Decision Memorandum is a public document and is on file electronically via Import Administration's Antidumping and Countervailing Duty Centralized Electronic Service System (IA ACCESS). IA ACCESS is available to registered users at http://iaaccess.trade.gov and in the Central Records Unit (CRU), room 7046 of the main Department of Commerce building. In addition, a complete version of the Issues and Decision Memorandum can be accessed directly on the internet at http://www.trade.gov/ia/. The signed Issues and Decision Memorandum and the electronic versions of the Issues and Decision Memorandum are identical in content.

Changes Since the Preliminary Results

The Department has revised its calculations from the Preliminary Results based on its targeted dumping analysis. Accordingly the cash deposit rates and importer-specific assessment rates have changed for the final results. See the Issues and Decision Memorandum and the memorandum entitled “Antidumping Duty Administrative Review of Purified Carboxymethylcellulose (CMC) from the Netherlands: Final Calculation Memorandum from Dena Crossland, International Trade Compliance Analyst, AD/CVD Operations, Office 7, Import Administration, to The File, through Angelica Mendoza, Program Manager, AD/CVD Operations, Import Administration,” dated January 31, 2013 (CMC Final Calculation Memo) for further discussion.

Final Results of Review

We determine that the following weighted-average dumping margin exists for the period July 1, 2010, through June 30, 2011:

Producer | Weighted-Average Margin (percentage)
Akzo Nobel Functional Chemicals B.V. | 9.03

Assessment

The Department shall determine, and CBP shall assess, antidumping duties on all appropriate entries. In accordance with 19 CFR 351.212(b)(1), the Department normally calculates an assessment rate for each importer of the subject merchandise covered by the review. In this review, we have calculated, whenever possible, an importer-specific assessment rate or value for merchandise subject to this review as described below.

As noted in the Preliminary Results, all of Akzo Nobel's U.S. sales of CMC were constructed-export-price sales (e.g., sales through Akzo Nobel's U.S. affiliate to the unaffiliated purchaser in the United States). Accordingly, we divided the total dumping margins for the reviewed sales by the total entered value of those reviewed sales for each importer. We will direct CBP to assess the resulting percentage margin against the entered customs values for the subject merchandise on each importer's respective POR entries. See 19 CFR 351.212(b).

The calculated ad valorem rates will be assessed uniformly on all entries made by the respective importers during the POR. Where the assessment rate is above de minimis, we will instruct CBP to assess duties on all entries of subject merchandise by that importer.

As stated above, the Department clarified its “automatic assessment” regulation on May 6, 2003. This clarification will apply to entries of subject merchandise during the POR produced by reviewed companies for which these companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

The Department intends to issue assessment instructions directly to CBP 15 days after publication of these final results of review.

Cash Deposit Requirements

The following cash deposit requirements will be effective upon publication of the final results of this administrative review for all shipments of the subject merchandise entered, or withdrawn from warehouse, for consumption on or after the publication date, as provided for by section 751(a)(2)(C) of the Tariff Act of 1930, as amended: (1) The cash deposit rate for Akzo Nobel will be the rate established in the final results of this review; (2) for previously reviewed or investigated companies not covered in this review, the cash deposit rate will continue to be the company-specific rate published for the most recent period; (3) if the exporter is not a firm covered in this or any previous review or in the less-than-fair-value (LTFV) investigation but the manufacturer is, the cash-deposit rate will be the rate established for the most recent period for the manufacturer of the merchandise; and (4) if neither the exporter nor the manufacturer is a firm covered in this or any previous review or the investigation, the cash-deposit rate will continue to be the all-others rate of 14.57 percent, which is the all-others rate established by the Department in the LTFV investigation. See Order. These cash deposit requirements, when imposed, shall remain in effect until further notice.

Reimbursement of Duties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Act.

Dated: January 31, 2013.
Paul Piquado,
Assistant Secretary for Import Administration.

Appendix I

List of Issues Discussed in the Accompanying Issues and Decision Memorandum

Issue 1: Targeted Dumping Methodology

Issue 2: Monthly Time Period Allegation

Issue 3: Cost Database

[FR Doc. 2013-03212 Filed 2-11-13; 8:45 am]

BILLING CODE 3510-DS-P